FEDERAL RESERVE SYSTEM

[Docket No. OP-1541]

Privacy Act of 1974; Notice of Amended System of Records

AGENCY: Board of Governors of the Federal Reserve System.

ACTION: Notice of amended system of records.

SUMMARY: Pursuant to the provisions of the Privacy Act of 1974, 5 U.S.C. 552a, notice is given that the Board of Governors of the Federal Reserve System (Board) is modifying BGFRS-1 (FRB-Recruiting and Placement Records), to account for a new electronic system that Board staff will use to identify, track, screen, and select for certain positions at the Board. In connection with the implementation, the Board is amending the system of records to update the location and manager, the categories of records, the access controls, the retention period, and the record source categories, and to identify the authority more specifically. The Board is not adding or deleting any routine uses or changing the exemptions claimed for this system of records.

DATES: In accordance with 5 U.S.C. 552a(e)(4) and (11), the public is given a 30-day period in which to comment; and the Office of Management and Budget (OMB), which has oversight responsibility under the Privacy Act, requires a 40-day period in which to conclude its review of the system. Therefore, please submit any comments on or before July 20, 2016. The amended system of records will become effective August 1, 2016, without further notice, unless comments dictate otherwise.

ADDRESSES: The public, OMB, and Congress are invited to submit comments, identified by the docket number above, by any of the following methods:

• Agency Web site: http://www.federalreserve.gov. Follow the instructions for submitting comments at http://www.federalreserve.gov/generalinfo/foia/ProposedRegs.cfm.

• Federal eRulemaking Portal: http://www.regulations.gov. Follow the instructions for submitting comments.

• Email: regs.comments@federalreserve.gov. Include docket number in the subject line of the message.

• Fax: 202/452-3819 or 202/452-3102.

• Mail: Robert deV. Frierson, Secretary, Board of Governors of the Federal Reserve System, 20th Street and Constitution Avenue NW., Washington, DC 20551.

All public comments will be made available on the Board's Web site at www.federalreserve.gov/generalinfo/foia/ProposedRegs.cfm as submitted, unless modified for technical reasons. Accordingly, comments will not be edited to remove any identifying or contact information. Public comments may also be viewed electronically or in paper form in Room 3515, 1801 K Street (between 18th and 19th Streets NW., Washington, DC 20006 between 9:00 a.m. and 5:00 p.m. on weekdays.

FOR FURTHER INFORMATION CONTACT: Alye S. Foster, Senior Special Counsel, Legal Division, Board of Governors of the Federal Reserve System, 20th Street and Constitution Avenue NW., Washington, DC 20551, or (202) 452-5289, or alye.s.foster@frb.gov. Telecommunications Device for the Deaf (TDD) users may contact (202) 263-4869.

SUPPLEMENTARY INFORMATION: In accordance with the Privacy Act of 1974, 5 U.S.C. 552a, the Board proposes to modify system of records BGFRS-1 (FRB-Recruiting and Placement Records). The Board is replacing an electronic system that it uses to assist Board staff in identifying, tracking, screening, and selecting individuals for positions at the Board. In connection with the implementation, the Board is amending the system of records to update the location and manager, the categories of records, the access controls, the retention period, and the record source categories, and is also identifying the authority more specifically. The Board is not adding or deleting any routine uses or changing the exemptions claimed for this system of records.

In accordance with 5 U.S.C. 552a(r), a report of this system of records is being filed with the Chair of the House Committee on Oversight and Government Reform, the Chair of the Senate Committee on Homeland Security and Governmental Affairs, and the Administrator of the Office of Information and Regulatory Affairs of the Office of Management and Budget.

By order of the Board of Governors of the Federal Reserve System, acting through the Secretary of the Board under delegated authority.

Dated: June 14, 2016.
Robert deV. Frierson,
Secretary of the Board.

System of Records

BGFRS-1

System name:

FRB—Recruiting and Placement Records.

System location:

Board of Governors of the Federal Reserve System, 20th Street and Constitution Avenue NW., Washington, DC 20551. Copies of resumes, applications, supporting documentation, and offer information may also be stored by the hiring managers in their respective Board offices and electronic systems.

Some of the records may be stored by contractors on behalf of the Board. The contractors are: PeopleFluent Inc., 434 Fayetteville Street, 9th Floor, Raleigh, NC 27601, and Oracle Corporation, Equinix CH3-1905 Lunt Avenue, Elk Grove, IL 60007.

Categories of individuals covered by the system:

Persons who seek employment with the Board of Governors of the Federal Reserve System.

Categories of records in the system:

Records in the system include resumes, applications, and supporting documentation submitted by persons seeking employment; information from job fairs; job referrals; notes from interviews with applicants; notes of interviews with references; and offer letters and related documentation, including verification of education and/or military status. The records also include information regarding access to and use of the electronic systems. Certain information is also retained to enable the Board's Office of Diversity and Inclusion to monitor and track the Board's recruiting and hiring performance.

Authority for maintenance of the system:

Sections 10 and 11 of the Federal Reserve Act (12 U.S.C. 244 and 248(l)).

Purpose(s):

These records are collected and maintained to assist the Board in recruiting, hiring, and retaining qualified employees, and to allow the Board to periodically review its hiring practices.

Routine uses of records maintained in the system, including categories of users and the purposes of such uses:

General routine uses A, B, C, D, E, F, G, H, and I apply to this system. Records may also be used to disclose information to any source from which additional information is requested (to the extent necessary to identify the individual, inform the source of the purpose(s) of the request, and identify the type of information requested), when necessary to obtain information relevant to a Board decision to hire or retain an employee, issue a security clearance, conduct a security or suitability investigation of an individual, classify jobs, let a contract, or issue a license, grant, or other benefit.

Policies and practices for storing, retrieving, accessing, retaining, and disposing of records in the system:

Storage:

Records in this system are stored securely in paper and stored on secure servers as electronic records.

Retrievability:

Paper records are retrieved by year, hiring division, or recruited position, not by individually identifiable labels. Electronic records are retrieved by name or other identifying aspects.

Access Controls:

Access to records is limited to those whose official duties require it. Paper records are secured by lock and key and electronic records are password protected. The electronic storage systems have the ability to track individual actions within the applications. The audit and accountability controls are based on Board standards which, in turn, are based on applicable laws and regulations. The controls assist in detecting security violations and performance or other issues within the electronic systems.

Access is restricted to authorized employees and contractors within the Board and vendor customer support personnel who require access for official business purposes. Board users are classified into different roles and common access and usage rights are established for each role. User roles are used to delineate between the different types of access requirements such that users are restricted to data that is required in the performance of their duties. Periodic audits and reviews are conducted to determine whether authenticated users still require access and whether there have been any unauthorized changes in any information maintained.

Retention and disposal:

The current retention period for application materials of applicants who are not hired is two years. The Board is presently re-evaluating the retention schedule for all application materials, however, and until the existing retention period is confirmed as appropriate or a new retention period is set, the Board will maintain the application materials indefinitely. Application materials for applicants who are hired are kept in the employee's official personnel file and maintained in accordance with the System of Records entitled BGFRS-4, “FRB—General Personnel Records.”

System manager and address:

The system manager for records other than those involving the recruitment of economist or research assistant positions in the economics divisions of the Board is the Assistant Director, Talent Acquisition, Management Division, Board of Governors of the Federal Reserve System, 20th Street and Constitution Avenue NW., Washington, DC 20551. The system manager for records involving the recruitment of economist or research assistant positions in the economics divisions of the Board is the Senior Associate Director, Division of Research and Statistics.

Notification procedures:

An individual desiring to learn of the existence of their record or gain access to his or her record in this system of records shall submit a request in writing to the Secretary of the Board, Board of Governors of the Federal Reserve System, 20th Street and Constitution Avenue NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains; the transcript or notes from interviews with the individual; notes from interviews and supporting documentation from references; recruiters; job referrals; and official transcripts and other documentation from schools identified by the individual.

Exemptions claimed for the system:

Certain portions of this system of records may be exempt from 5 U.S.C. 552a(c)(3), (d), (e)(1), (e)(4)(G), (H), and (I), and (f) of the Privacy Act pursuant to subsections 5 U.S.C. 552a(k)(2) and (k)(5).

[FR Doc. 2016-14415 Filed 6-17-16; 8:45 am]

BILLING CODE 6210-01-P